DEPARTMENT OF ENERGY

Federal Energy Regulatory Commission

[Docket Nos. CP05-380-000, CP05-381-000, and CP05-382-000]

Point Comfort Pipeline Company, L.P.; Notice of Application

June 17, 2005.

Take notice that on June 10, 2005, Point Comfort Pipeline Company, L.P. (Point Comfort), Three Riverway, Suite 525, Houston, Texas 77056 filed an application, pursuant to section 7(c) of the Natural Gas Act (NGA), for authorization to construct, own and operate the Point Comfort Pipeline and related facilities, and for approval of its Pro Forma Tariff and proposed initial rates for service. Point Comfort also requests blanket certificates authorizing it to engage in certain routine activities under part 157, subpart F and for authority to transport natural gas under part 284, subpart G of the Commission's regulations.

The Point Comfort Pipeline facilities would consist of an approximately 27-mile-long, 36-inch-diameter pipeline in Calhoun and Jackson Counties, Texas connecting the proposed Calhoun LNG import terminal (filed on March 18, 2005 in Docket No. CP05-91-000) to interconnects with interstate and intrastate pipelines and two industrial facilities located near the proposed pipeline route.

The Point Comfort Pipeline facilities would also include two approximately 0.25-mile-long lateral pipelines, above ground pig launcher and receiver facilities, metering and regulation facilities and a supervisory control and data acquisition system. The Point Comfort Pipeline facilities are designed to transport a maximum average daily throughput of 1.0 billion cubic feet per day of natural gas.

This application is on file with the Commission and open to public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions concerning this application should be directed to Counsel for Point Comfort Pipeline, L.P., Tania S. Perez, King & Spalding LLP, 1185 Avenue of the Americas, New York, NY 10036, at (212) 556-2161 or fax (212) 556-2222 or tperez@kslaw.com.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. Unless filing electronically, a party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site (http://www.ferc.gov) under the “e-Filing” link.

Comment Date: July 8, 2005.

Magalie R. Salas,
Secretary.

[FR Doc. E5-3293 Filed 6-23-05; 8:45 am]

BILLING CODE 6717-01-P